DEPARTMENT OF ENERGY

Federal Energy Regulatory Commission

Combined Notice of Filings #1

Take notice that the Commission received the following electric corporate filings:

Docket Numbers: EC23-51-000.

Applicants: Phoenix Energy Group, LLC.

Description: Application for Authorization Under Section 203 of the Federal Power Act of Phoenix Energy Group, LLC.

Filed Date: 1/9/23.

Accession Number: 20230109-5198.

Comment Date: 5 p.m. ET 1/30/23.

Take notice that the Commission received the following exempt wholesale generator filings:

Docket Numbers: EG23-57-000.

Applicants: Cavalry Energy Center, LLC.

Description: Cavalry Energy Center, LLC submits Notice of Self-Certification of Exempt Wholesale Generator Status.

Filed Date: 1/10/23.

Accession Number: 20230110-5136.

Comment Date: 5 p.m. ET 1/31/23.

Docket Numbers: EG23-58-000.

Applicants: Dunns Bridge Energy Storage, LLC.

Description: Dunns Bridge Energy Storage, LLC submits Notice of Self-Certification of Exempt Wholesale Generator Status.

Filed Date: 1/10/23.

Accession Number: 20230110-5144.

Comment Date: 5 p.m. ET 1/31/23.

Take notice that the Commission received the following Complaints and Compliance filings in EL Dockets:

Docket Numbers: EL23-22-000.

Applicants: Missouri Joint Municipal Electric Utility Commission d/b/a the Missouri Electric Commission.

Description: Missouri Joint Municipal Electric Utility Commission d/b/a the Missouri Electric Commission submits Request for Partial Waiver of Public Utility Regulatory Policies Act Obligations of Electric Utilities to Purchase and Sell Energy et al.

Filed Date: 1/6/23.

Accession Number: 20230106-5159.

Comment Date: 5 p.m. ET 1/27/23.

Take notice that the Commission received the following electric rate filings:

Docket Numbers: ER21-2380-000.

Applicants: EDF Trading North America, LLC.

Description: Refund Report: Refund report to 76 to be effective N/A.

Filed Date: 1/10/23.

Accession Number: 20230110-5073.

Comment Date: 5 p.m. ET 1/31/23.

Docket Numbers: ER21-2455-004.

Applicants: California Independent System Operator Corporation.

Description: Compliance filing: 2023-01-10 FERC Order No. 2222 Errata Filing of Corrections to be effective 6/16/2022.

Filed Date: 1/10/23.

Accession Number: 20230110-5148.

Comment Date: 5 p.m. ET 1/31/23.

Docket Numbers: ER23-799-000.

Applicants: Pivot Point Energy Group, LLC.

Description: Baseline eTariff Filing: Market-Based Rate Tariff Application to be effective 1/10/2023.

Filed Date: 1/9/23.

Accession Number: 20230109-5156.

Comment Date: 5 p.m. ET 1/30/23.

Docket Numbers: ER23-800-000.

Applicants: The Dayton Power and Light Company.

Description: § 205(d) Rate Filing: Filing of Union Facilities Agreement to be effective 3/11/2023.

Filed Date: 1/9/23.

Accession Number: 20230109-5164.

Comment Date: 5 p.m. ET 1/30/23.

Docket Numbers: ER23-801-000.

Applicants: Alabama Power Company, Georgia Power Company, Mississippi Power Company

Description: § 205(d) Rate Filing: Alabama Power Company submits tariff filing per 35.13(a)(2)(iii: CED Timberland Solar 2 LGIA Filing to be effective 1/4/2023.

Filed Date: 1/10/23.

Accession Number: 20230110-5081.

Comment Date: 5 p.m. ET 1/31/23.

Docket Numbers: ER23-802-000.

Applicants: PJM Interconnection, L.L.C.

Description: Tariff Amendment: Notice of Cancellation of ISA & ICSA, SA Nos. 5246 & 5247; Queue No. Z2-107 to be effective 2/19/2023.

Filed Date: 1/10/23.

Accession Number: 20230110-5111.

Comment Date: 5 p.m. ET 1/31/23.

Take notice that the Commission received the following qualifying facility filings:

Docket Numbers: QF23-360-000.

Applicants: B.C. Organics LLC.

Description: Form 556 of B.C. Organics LLC.

Filed Date: 1/9/23.

Accession Number: 20230109-5188.

Comment Date: 5 p.m. ET 1/30/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 10, 2023.
Debbie-Anne A. Reese,
Deputy Secretary.

[FR Doc. 2023-00771 Filed 1-17-23; 8:45 am]

BILLING CODE 6717-01-P